DEPARTMENT OF COMMERCE

National Oceanic and Atmospheric Administration

RIN 0648-XM43

South Atlantic Fishery Management Council; Public Meetings

AGENCY: National Marine Fisheries Service (NMFS), National Oceanic and Atmospheric Administration, Commerce.

ACTION: Notice of scoping meetings.

SUMMARY: The South Atlantic Fishery Management Council (Council) will hold a series of public hearings regarding its Fishery Ecosystem Plan (FEP) and Comprehensive Ecosystem-Based Amendment 1. The Council will also conduct scoping meetings regarding a Comprehensive Annual Catch Limit (ACL) Amendment, Amendment 18 to the Snapper Grouper Fishery Management Plan (FMP) for the South Atlantic, and a Comprehensive Ecosystem-Based Amendment 2. See SUPPLEMENTARY INFORMATION.

DATES: The series of 5 public hearings and scoping meetings will be held January 26, 2009 through February 5, 2009. All scoping meetings will be open from 3 p.m. until 7 p.m. Council staff will be available for informal discussions and to answer questions. Members of the public will have an opportunity to go on record at any time during the meeting hours to record their comments on the public hearing topics and scoping issues for Council consideration. Local Council representatives will attend the meetings and take public comment. Written comments must be received in the South Atlantic Council's office by 5 p.m. on February 6, 2009. See SUPPLEMENTARY INFORMATION.

ADDRESSES: Written comments should be sent to Bob Mahood, Executive Director, South Atlantic Fishery Management Council, 4055 Faber Place Drive, Suite 201, North Charleston, SC 29405, or via email to: FEP2009Comments@safmc.net for the Fishery Ecosystem Plan; CEBA2009Comments@safmc.net for the Comprehensive Ecosystem-Based Amendment 1; CompACLScoping@safmc.net for the Comprehensive ACL Amendment; SGAm18Scoping@safmc.net for Amendment 18 to the Snapper Grouper FMP; and CEBA2Scoping@safmc.net for the Comprehensive Ecosystem-Based Amendment 2. Written comments must be received in the South Atlantic Council's office by 5 p.m. on February 6, 2009.

Copies of the scoping documents are available from Kim Iverson, Public Information Officer, South Atlantic Fishery Management Council, 4055 Faber Place Drive, Suite 201, North Charleston, SC 29405; telephone: (843) 571-4366 or toll free at (866) SAFMC-10. Copies will also be available online at www.safmc.net as they become available.

FOR FURTHER INFORMATION CONTACT: Kim Iverson, South Atlantic Fishery Management Council, 4055 Faber Place Drive, Suite 201, North Charleston, SC 29405; telephone: (843) 571-4366; fax: (843) 769-4520; email address: kim.iverson@safmc.net.

SUPPLEMENTARY INFORMATION:

Meeting Dates and Locations:

The scoping meetings will be held at the following locations:

1. January 26, 2009 - Hilton Garden Inn, 5265 International Blvd., North Charleston, SC 29418, telephone: (843) 308-9330;

2. January 27, 2009 - Bridge Pointe Hotel, 101 Howell Road, New Bern, NC 28582, telephone: (252) 636-3637;

3. February 3, 2009 - Key Largo Grande, 97000 South Overseas Highway, Key Largo, FL 33037, telephone: (305) 852-5553;

4. February 4, 2009 - Doubletree Hotel, 2080 N. Atlantic Avenue, Cocoa Beach, FL 32931, telephone: (321) 783-9222;

5. February 5, 2009 - Mighty Eighth Air Force Museum, 175 Bourne Avenue, Pooler, GA 31322, telephone: (912) 748-8888.

As part of the meeting schedule, a second round of public hearings will be held on the Council's Fishery Ecosystem Plan (FEP) and Comprehensive Ecosystem-Based Amendment 1 (CE-BA). The Council held an earlier round of public hearings in May 2008. The Council is developing the FEP to act as a source document to provide a greater degree of guidance on incorporation of fishery, habitat, and ecosystem considerations into management actions. The CE-BA includes alternatives to amend the Coral FMP to establish deepwater coral Habitat Areas of Particular Concern (HAPCs) and address information updates and spatial requirements of the Essential Fish Habitat final rule. In addition, the CE-BA includes alternatives to amend the Golden Crab FMP to establish allowable golden crab and deepwater shrimp fishing areas. Areas being considered for designation as HAPCs include: (a) Cape Lookout Lophelia Banks HAPC, (b) Cape Fear Lophelia Banks HAPC, (c) Blake Ridge Diapir, (d) the Stetson Reefs, Savannah and East Florida Lithoherms, and Miami Terrace HAPC, and (e) Portales Terrace HAPC.

The public scoping meetings will address overlapping fisheries issues for the South Atlantic region. Items under consideration for public scoping include a Comprehensive Annual Catch Limit Amendment to specify Annual Catch Limits (ACLs), Annual Catch Targets (ACTs), and Accountability Measures (AMs) for species within the Council's area of jurisdiction currently not undergoing overfishing. The amendment would also establish regulations to limit total mortality (landings and discards) to the Annual Catch Target. Measures to limit total mortality may include, but are not limited to: (a) commercial quotas and recreational allocations, (b) trip limits, (c) vessel limits, (d) size limits, (e) bag limits, (f) closed areas, (g) closed seasons, (h) permit endorsements, (i) fishing year changes, etc. The amendment also addresses spiny lobster fishery issues.

Amendment 18 to the Snapper Grouper Fishery Management Plan is also included as part of public scoping. Actions proposed in Amendment 18 include but are not limited to: options to limit participation and effort in the golden tilefish and black sea bass fisheries, extension of the fishery management unit range and designation of Essential Fish Habitat (EFH), changes to the golden tilefish fishing year, consideration of regional/state management of the snowy grouper quota, consideration of regional/state management of the gag recreational allocation, improvements to data reporting, and modifications to the current Wreckfish ITQ (Individual Transferable Quota) Program.

The Council is also scoping items to include in Comprehensive Ecosystem-Based Amendment 2. These include updating EFH and EFH Habitat Areas of Particular Concern as required by the Final Rule and modifications to the harvest of octocorals and Sargassum.

Special Accommodations

These meetings are physically accessible to people with disabilities. Requests for sign language interpretation or other auxiliary aids should be directed to the Council office (see ADDRESSES) 3 days prior to the start of each meeting.

Dated: December 30, 2008.
Tracey L. Thompson,
Acting Director, Office of Sustainable Fisheries, National Marine Fisheries Service.

[FR Doc. E8-31262 Filed 1-5-09; 8:45 am]

BILLING CODE 3510-22-S